DEPARTMENT OF EDUCATION

[CFDA Number: 84.133B-1]

Final Priority; Rehabilitation Research and Training Center—Interventions To Promote Community Living Among Individuals with Disabilities

AGENCY: Office of Special Education and Rehabilitative Services, Department of Education.

ACTION: Notice of final priority.

SUMMARY: The Assistant Secretary for Special Education and Rehabilitative Services announces a priority for a Rehabilitation Research and Training Center (RRTC) on Interventions to Promote Community Living Among Individuals with Disabilities. The Assistant Secretary may use this priority for competitions in fiscal year (FY) 2011 and later years. We take this action to focus research attention on areas of national need. We intend this priority to contribute to improved participation and community living outcomes for individuals with disabilities and their families.

DATES: Effective Date: This priority is effective July 27, 2011.

FOR FURTHER INFORMATION CONTACT: Marlene Spencer, U.S. Department of Education, 400 Maryland Avenue, SW., room 5133, Potomac Center Plaza (PCP), Washington, DC 20202-2700. Telephone: (202) 245-7532 or by e-mail: marlene.spencer@ed.gov.

If you use a telecommunications device for the deaf (TDD), call the Federal Relay Service (FRS), toll free, at 1-800-877-8339.

SUPPLEMENTARY INFORMATION: This notice of final priority (NFP) is in concert with National Institute on Disability and Rehabilitation Research (NIDRR's) currently approved Long-Range Plan (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine the best strategies and programs to improve rehabilitation outcomes for underserved populations; (4) identify research gaps; (5) identify mechanisms of integrating research and practice; and (6) disseminate findings.

This notice announces a priority that NIDRR intends to use for RRTC competitions in FY 2011 and possibly later years. However, nothing precludes NIDRR from publishing additional priorities if needed. Furthermore, NIDRR is under no obligation to make an award for this priority. The decision to make an award will be based on the quality of applications received and available funding.

Purpose of Program: The purpose of the Disability and Rehabilitation Research Projects and Centers Program is to plan and conduct research, demonstration projects, training, and related activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act) (29 U.S.C. 701 et seq.).

RRTC Program

The purpose of the RRTCs, which are funded through the Disability and Rehabilitation Research Projects and Centers Program, is to improve the effectiveness of services authorized under the Rehabilitation Act, through advanced research, training, technical assistance, and dissemination activities in general problem areas, as specified by NIDRR. Such activities are designed to benefit rehabilitation service providers, individuals with disabilities, and the family members or other authorized representatives of individuals with disabilities. Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

We published a notice of proposed priority (NPP) for NIDRR's Disability and Rehabilitation Research Projects and Centers Program in the Federal Register on March 29, 2011 (76 FR 17400). That notice contained background information and our reasons for proposing this particular priority.

Public Comment

In response to our invitation in the notice of proposed priority, four parties submitted comments on the proposed priority.

Generally, we do not address technical and other minor changes. In addition, we do not address general comments that raised concerns not directly related to the proposed priority.

Analysis of Comments and Changes: An analysis of the comments and of any changes in the priority since publication of the notice of proposed priority follows.

Comment: Two commenters recommended that NIDRR revise this priority so that it focuses on research about the role that natural community supports, such as faith-based organizations, can play in supporting individuals with disabilities to live independently and participate in the community. The first commenter suggested that we require the RRTC to provide training and resources to faith-based organizations to facilitate their partnerships with residential providers and other human services agencies that serve individuals with disabilities. The second commenter suggested that we revise the priority to focus on the role of faith-based organizations in supporting the community participation of youth with disabilities. This second commenter also suggested that we should revise the priority to focus on the role of faith-based organizations in supporting the community participation of ethnic minorities with disabilities and individuals with disabilities living in rural areas.

Discussion: Nothing in this priority precludes applicants from proposing research or training projects that focus on the role of faith-based organizations in facilitating the community participation and independent living of individuals with disabilities. Applicants are also free to propose research and training efforts that focus on specific populations of individuals with disabilities, including youth, ethnic minorities, and individuals living in rural areas, who have disabilities. NIDRR does not want to limit applicants' ability to propose projects that address other important topics or populations, by specifically requiring research and training related to specific populations, or on faith-based organizations.

Changes: None.

Comment: One commenter noted that the background statement supporting the priority emphasizes the transition of individuals with disabilities from institutions into the community as well as continuity of community living to avoid reinstitutionalization. The commenter suggested that this emphasis be reflected more explicitly in the five areas described in paragraph (b) of the priority.

Discussion: NIDRR intended paragraph (b) of the priority to have a strong focus on supporting the transition from institutions to the community, and the continuity of community living among individuals with disabilities. We do not believe a change is necessary to highlight this focus because the opening sentence of paragraph (b) clearly states that NIDRR intends the RRTC to contribute to the outcome of improved services and supports needed to participate fully in the community, including services and supports needed to transition from institutions to the community, and to maintain continuity of community living by individuals with disabilities. The five areas in paragraph (b) from which applicants must choose are areas in which policies, programs, or strategies can be identified or designed and tested to support this outcome.

Changes: None.

Comment: One commenter noted that health and community participation are linked among people with disabilities. For this reason, the commenter recommended that we revise paragraph (b) of the priority to include “healthy living” as one of the areas from which applicants must choose to focus their research efforts.

Discussion: NIDRR agrees that health and health services are related to community participation outcomes among individuals with disabilities, and that applicants should be allowed to choose a focus on services and supports related to health, and we are revising paragraph (b) of the priority accordingly.

Changes: NIDRR has modified the priority to add health as one of the areas from which applicants can choose to focus their research efforts.

Comment: None.

Discussion: Upon further review of paragraph (c)(1) of the priority, we determined that it would be clearer to expressly mention the topics to be included in the RRTC's required systematic review.

Changes: We have revised paragraph (c)(1) of the priority to clarify that the RRTC must conduct systematic reviews of research on services and supports that provide opportunities for the population of individuals with disabilities to participate fully in the community.

Final Priority

Priority—Rehabilitation Research and Training Center (RRTC) on Interventions to Promote Community Living Among Individuals with Disabilities

The Assistant Secretary for Special Education and Rehabilitative Services establishes a priority for a Rehabilitation Research and Training Center (RRTC) on Interventions to Promote Community Living Among Individuals with Disabilities. The RRTC must conduct rigorous research, training, technical assistance, and dissemination activities that contribute to improved community participation and community living outcomes for individuals with disabilities, including individuals transitioning into the community from nursing homes and other health and community institutions. Under this priority, the RRTC must contribute to the following outcomes:

(a) Increased knowledge about how the barriers to and experiences of community living may differ across sociodemographic and geographic groups within the diverse population of individuals with disabilities. The RRTC must contribute to the outcome by conducting research on the extent to which access to community services and supports and community participation outcomes are related to sociodemographic factors (e.g., race, ethnicity, income level, education level), the geographic area in which individuals reside (e.g., rural or urban areas), or disability characteristics (e.g., disability severity or type of disabling condition).

(b) Improved services and supports that provide opportunities for the population of individuals with disabilities to participate fully in the community, including the services and supports needed to transition from institutions, nursing homes, and other health and community institutions, to the community and to maintain continuity of community living (i.e., community living without interruption due to hospitalization or institutionalization). The RRTC must contribute to this outcome by identifying or developing and then testing policies, programs, or strategies that improve community living services and supports for individuals with disabilities. In this regard, the RRTC must focus its efforts on at least two of the following areas: Housing; transportation; health; and recreational, community, and civic activities. In carrying out this requirement, the RRTC must also take into account the findings from paragraph (a) of this priority. The policies, programs, or strategies to be tested under this paragraph (b) may include strategies that integrate or coordinate services from different areas.

(c) Increased incorporation of research findings into practice or policy. The RRTC must contribute to this outcome by coordinating with appropriate NIDRR-funded knowledge translation grantees to advance or add to their work by—

(1) Conducting systematic reviews of research on services and supports that provide opportunities for the population of individuals with disabilities to participate fully in the community and developing research syntheses consistent with standards, guidelines, and procedures established by the knowledge translation grantees;

(2) Using knowledge translation strategies identified as promising by the knowledge translation grantees to increase the use of research findings;

(3) Collaborating with centers for independent living and other stakeholder groups to develop, implement, or evaluate strategies to increase utilization of the research findings; and

(4) Conducting training and dissemination activities to facilitate the utilization of the research findings by community-based organizations and other service providers, policymakers, and individuals with disabilities.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priority justify the costs.

Summary of Potential Costs and Benefits

The benefits of the Disability and Rehabilitation Research Projects and Centers Programs have been well established over the years in that similar projects have been completed successfully. This final priority will generate new knowledge through research, development, and knowledge translation activities. Another benefit of this final priority is that the establishment of a new RRTC will improve the lives of individuals with disabilities and their family members. The new RRTC will generate and promote the use of new information that will improve the options for individuals with disabilities with regard to community living and community participation.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 21, 2011.
Alexa Posny,
Assistant Secretary for Special Education and Rehabilitative Services.

[FR Doc. 2011-16035 Filed 6-24-11; 8:45 am]

BILLING CODE 4000-01-P